DEPARTMENT OF JUSTICE

Drug Enforcement Administration

Agency Information Collection Activities: Proposed Collection; Comment Requested

ACTION: Notice of information collection under review; Extension of a currently approved collection; Collection of Laboratory Analysis Data on Drug Samples Tested by Non-Federal (State and Local Government) Crime Laboratories.

Office of Management and Budget (OMB) approval is being sought for the information collection listed below. This proposed information collection was previously published in the Federal Register on May 16, 2000, allowing for a 60-day public comment period.

The purpose of this notice is to allow an additional 30 days for public comment until August 21, 2000. This process is conducted in accordance with 5 CFR 1320.10. Written comments and/or suggestions regarding the item(s) contained in this notice, especially regarding the estimated public burden and associated response time, should be directed to the Office of Management and Budget, Office of Information and Regulatory Affairs, Attention: Department of Justice Desk Officer, Washington, DC 20503. Additionally, comments may be submitted to OMB via facsimile to 202-395-7285. Comments may also be submitted to the Department of Justice (DOJ), Justice Management Division, Information Management and Security Staff, Attention: Department Clearance Officer, Suite 1221, National Place Building, 1331 Pennsylvania Ave., NW., Washington, DC 20530. Additionally, comments may be submitted to DOJ via facsimile to (202) 514-1590.

Written comments and/or suggestions from the public and affected agencies concerning the proposed collection of information should address one or more of the following four points:

1. Evaluate whether the proposed collection of information is necessary for the proper performance of the function of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submission of responses.

Overview of this information collection:

1. Type of information collection: Extension of a currently approved collection.

2. The title of the form/collection: Collection of Laboratory Analysis Data on Drug Samples Tested by Non-Federal (State and Local Government) Crime Laboratories.

3. The agency form number, if any, and the applicable component of the Department sponsoring the collection: Form No.: None Applicable component of the Department sponsoring the collection: Office of Diversion Control, Drug Enforcement Administration, U.S. Department of Justice.

4. Affected public who will be asked or required to respond, as well as a brief abstract: Primary: Regulatory or Compliance. Other: Research. Abstract: Information is needed from state and local laboratories to provide DEA with additional analyzed drug information for the National Forensic Laboratory Information System.

5. An estimate of the total number of respondents and the amount of time estimated for an average respondent to respond/reply: 100 respondents, 1200 responses per year, × .25 hours per response.

6. An estimate of the total public burden (in hours) associated with the collection: 300 annual burden hours.

Public comments on this proposed information collection are strongly encouraged.

If additional information is required contact: Mr. Robert B. Briggs, Department Clearance Officer, U.S. Department of Justice, Information Management and Security Staff, Justice Management Division, Suite 1221, National Place Building, 1331 Pennsylvania Ave., NW., Washington 20530.

Dated: July 17, 2000.
Robert B. Briggs,
Department Clearance Officer, United States Department of Justice.

[FR Doc. 00-18545 Filed 7-20-00; 8:45 am]

BILLING CODE 4410-09-M